DEPARTMENT OF COMMERCE

National Oceanic and Atmospheric Administration

[I.D. 020402C]

North Pacific Fishery Management Council; Public Meeting

AGENCY: National Marine Fisheries Service (NMFS), National Oceanic and Atmospheric Administration (NOAA), Commerce.

ACTION: Notice of a public meeting.

SUMMARY: The Pacific Northwest Crab Advisory Committee, will meet in Seattle (Ballard), WA.

DATES: The meeting will be held on Thursday, February 21, 2002.

ADDRESSES: The meeting will be held at the Leif Erickson Hall, 2245 N.W. 57th Street, Seattle, WA.

Council address: North Pacific Fishery Management Council, 605 W. 4th Ave., Suite 306, Anchorage, AK 99501-2252.

FOR FURTHER INFORMATION CONTACT: Arni Thomsom, Alaska Crab Coalition; 206-547-7560.

SUPPLEMENTARY INFORMATION: The meeting will begin at 9:00 a.m. in the Conference Room at Leif Erickson Hall and continue until business is concluded. The North Pacific Northwest Crab Advisory Committee was formed by the Council to provide a means of access to the Bering Sea/Aleutian Islands king and Tanner crab regulatory process for nonresidents of Alaska. At this meeting, the committee will receive a presentation from the Alaska Department of Fish and Game on the opilio harvest strategy and will review proposals concerning the Bering Sea/Aleutian Island crab fisheries which will be considered by the Alaska Board of Fisheries in March 2002. If time permits, the Committee will discuss recent actions of the North Pacific Fishery Management Council concerning crab rationalization and other topics of interest concerning the Alaska crab fisheries.

Although non-emergency issues not contained in this agenda may come before this group for discussion, those issues may not be the subject of formal action during this meeting. Action will be restricted to those issues specifically identified in this notice and any issues arising after publication of this notice that require emergency action under section 305 (c) of the Magnuson-Stevens Fishery Conservation and Management Act, provided the public has been notified of the Council’s intent to take final action to address the emergency.

Special Accommodations

This meeting is physically accessible to people with disabilities. Requests for sign language interpretation or other auxiliary aids should be directed to Helen Allen, 907-271-2809, at least 5 working days prior to the meeting date.

Dated: February 4, 2002.
Richard W. Surdi,
Acting Director, Office of Sustainable Fisheries, National Marine Fisheries Service.

[FR Doc. 02-3003 Filed 2-6-02; 8:45 am]

BILLING CODE 3510-22-S